DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Software System for Analysis of Extremely Large Experimental Dataset and Multidimensional Drug Discovery

Description of Invention: This invention is a computer software suite that will enable its user to investigate extremely large experimental datasets in a simple yet multidimensional manner. The software, Omnimorph, allows multidimensional investigation of any form of data including experimental datasets in biomedical science using either gene arrays or proteomics. Omnimorph allows the user to look for extremely subtle correlated differences between experimental datasets which will allow the investigator to discover far more drug- or disease-specific factors than other analytical methods currently used. The software of present invention has been employed in the targeted discovery of G protein-independent receptor-based pharmacotherapeutics. These discoveries represent an entirely new GPCR-based G protein-independent pharmacopeia. Therefore, the Omnimorph is not only newly developed software, but the Omnimorph suite can also be used as a simple and unbiased tool to detect novel and unexpected modes of GPCR-based drug actions. This could potentially alter the way drugs are developed and screened in the future.

Applications:

• Development and screen for pharmaceutical drugs.

• Biomedical research.

Development Status:

• The invention has been fully developed.

• The software will be readily available if so requested.

Inventors: Stuart R. Maudsley et al. (NIA).

Patent Status: HHS Reference No. E-143-2010/0—Research Tool. Patent protection is not being pursued for this technology.

Licensing Status: Available for licensing.

Licensing Contacts: Uri Reichman, PhD, MBA; 301-435-4616; UR7a@nih.gov; or Michael Shmilovich, Esq.; 301-435-5019; ShmilovichM@mail.nih.gov.

Collaborative Research Opportunity: The National Institute on Aging, Laboratory of Neurosciences-Receptor Pharmacology Unit, is seeking statements of capability or interest from parties interested in collaborative research to further develop, evaluate, or commercialize this technology. Please contact John Hewes, PhD at 301-435-3131 or hewesj@mail.nih.gov for more information.

Sound Attenuation Canopy for Reducing Noise Transmitted Through Suspended Ceilings

Description of Invention: Available for licensing and commercial implementation in commercial facilities design and construction are intellectual property rights covering a sound attenuation canopy for reducing noise transmitted through suspended ceiling systems commonly used in most office buildings. The canopy is designed to absorb sound energy and effectively reduce the direct path of sound travelling within open plenum suspended ceilings like those used in most office building environments. The canopy can also act as an umbrella to shield loose debris and dust which may be located in the plenum and potentially fall when ceiling suspended return-air grilles are moved or accessed. The canopy has an added benefit of reducing heating or cooling loss which may naturally ventilate through the return air plenum grille from a conditioned office space below. Also, the canopy controls leakage of heating and cooling, reducing loads on the central building systems thereby lessening energy costs and extending the life-cycle of the building's physical plant.

The canopy does not impede natural air flow for ventilating the plenum cavity but deters the spread of smoke or fire between the plenum and the office space below. The canopy can also act as a secondary air balancer or K Factor balancer to equate supply and return air to control room temperature. The canopy is pliable and therefore allows for ease of adjustment within varying plenum conditions as well as readily installed in ceiling plenums.

Applications:

• Building design and construction.

• Sound attenuation.

• Energy load reduction.

Inventors: Judit A. Quasney, Franklin Koh, John P. Jenkins, Robert M. Alexander, Daniel P. O'Brien (NIAID).

Patent Status: U.S. Patent Application No. 12/764,872 filed 21 Apr 2010 (HHS Reference No. E-102-2010/0-US-01)

Licensing Status: Available for licensing.

Licensing Contact: Michael A. Shmilovich, Esq.; 301-435-5019; shmilovm@mail.nih.gov.

Dated: June 1, 2010.
Richard U. Rodriguez,
Director, Division of Technology Development and Transfer, Office of Technology Transfer, National Institutes of Health.

[FR Doc. 2010-13597 Filed 6-4-10; 8:45 am]

BILLING CODE 4140-01-P